DEPARTMENT OF COMMERCE

National Oceanic and Atmospheric Administration

RIN 0648-XU93

Notice of Intent to Prepare an Environmental Assessment for a Proposed Rule to Revise Marine Mammal Special Exception Permit Requirements

AGENCY: National Marine Fisheries Service (NMFS), National Oceanic and Atmospheric Administration (NOAA), Commerce.

ACTION: Notice of Intent to prepare Environmental Assessment; extension of comment period.

SUMMARY: On March 10, 2010, NMFS announced its intent to prepare an Environmental Assessment (EA) to analyze the potential environmental impacts of a proposed rule to revise federal regulations implementing the Section 104 permit provisions of the Marine Mammal Protection Act (MMPA) with written comments due by May 10, 2010. NMFS has decided to allow additional time for submission of public comments on this action.

DATES: The public comment period for this action has been extended by 30 days. Written comments must be received or postmarked by June 10, 2010.

ADDRESSES: Written comments should be mailed to: P. Michael Payne, Chief, Permits, Conservation and Education Division, Office of Protected Resources, National Marine Fisheries Service, 1315 East-West Highway, Room 13705, Silver Spring, MD 20910-3226. Comments may also be submitted by facsimile to (301) 713-0376 and confirmed by hard copy, or by email to mmpermitregs.comments@noaa.gov. Please include “Permit Regulations NOI” in the subject line of the email.

FOR FURTHER INFORMATION CONTACT: Amy Sloan or Jennifer Skidmore, (301) 713-2289.

SUPPLEMENTARY INFORMATION: NMFS has developed proposed revisions, additions, and restructuring of NMFS marine mammal permit application procedures and permit requirements to form the basis of one or more alternatives to be evaluated in an EA for a Proposed Rule. The internal scoping summary document for public review is available at: http://www.nmfs.noaa.gov/pr/permits/mmpa_regulations.htm.

NMFS will consider all comments received during the comment period. All hardcopy submissions must be unbound, on paper no larger than 8½ by 11 inches (216 by 279 mm), and suitable for copying and electronic scanning. NMFS requests that you include in your comments: (1) Your name and address; and (2) Any background documents to support your comments, as you feel necessary. A draft EA will be made available for public review concurrent with publication of a notice of proposed rulemaking.

Dated: March 29, 2010.
P. Michael Payne,
Chief, Permits, Conservation and Education Division, Office of Protected Resources, National Marine Fisheries Service.

[FR Doc. 2010-7492 Filed 4-1-10; 8:45 am]

BILLING CODE 3510-22-S